DEPARTMENT OF HEALTH AND HUMAN SERVICES

Centers for Disease Control and Prevention (CDC)

Advisory Committee for Injury Prevention and Control, Centers for Disease Control and Prevention: Notice of Charter Renewal

This gives notice under the Federal Advisory Committee Act (Pub. L. 92-463) of October 6, 1972, that the charter for the Advisory Committee for Injury Prevention and Control of the Centers for Disease Control and Prevention, Department of Health and Human Services, has been renewed for a 2-year period, through October 31, 2002.

FOR FURTHER INFORMATION CONTACT: Thomas Blakeney, 1600 Clifton Road, NE, M/S K58, Atlanta, Georgia 30333, telephone 770/488-1481.

The Director, Management Analysis and Services Office, has been delegated the authority to sign Federal Register notices pertaining to announcements of meetings and other committee management activities, for both the Centers for Disease Control and Prevention and the Agency for Toxic Substances and Disease Registry.

Dated: January 25, 2001.
Carolyn J. Russell,
Director, Management Analysis and Services Office, Centers for Disease Control and Prevention.

[FR Doc. 01-2625 Filed 1-30-01; 8:45 am]

BILLING CODE 4163-19-P